DEPARTMENT OF HOMELAND SECURITY

Coast Guard

33 CFR Part 117

[Docket No. USCG-2017-0071]

Drawbridge Operation Regulation; Atchafalaya River, Morgan City, LA

AGENCY: Coast Guard, DHS.

ACTION: Notice of temporary deviation from drawbridge regulation.

SUMMARY: The Coast Guard has issued a temporary deviation from the operating schedule that governs the Morgan City Railroad Bridge across the Atchafalaya River (also known as Berwick Bay), mile 17.5 [Gulf Intracoastal Waterway (Morgan City-Port Allen Alternate Route), mile 0.3] in Morgan City, St. Mary Parish, Louisiana. This deviation is necessary to perform maintenance needed for the continued safe operation of the bridge. This deviation allows for the bridge to remain closed-to-navigation for two (2) separate two-day periods between Thursday, March 9, 2017, and Friday, March 17, 2017.

DATES: This deviation is effective from 6 a.m. Thursday, March 9, 2017, through 9 p.m. on Friday, March 17, 2017.

ADDRESSES: The docket for this deviation, [USCG-2017-0071] is available at http://www.regulations.gov. Type the docket number in the “SEARCH” box and click “SEARCH.” Click on Open Docket Folder on the line associated with this deviation.

FOR FURTHER INFORMATION CONTACT: If you have questions on this temporary deviation, call or email Donna Gagliano, Bridge Administration Branch, Coast Guard, telephone (504) 671-2128, email Donna.Gagliano@uscg.mil.

SUPPLEMENTARY INFORMATION: The BNSF Railway requested a temporary deviation from the operating schedule of the Morgan City Railroad vertical lift drawbridge across Atchafalaya River, (aka Berwick Bay), mile 17.5 [GIWW (Morgan City-Port Allen Alternate Route), mile 0.3] in Morgan City, St. Mary Parish, Louisiana. This deviation is necessary to install new Conley joints, transition rails and track panels on the west side of the bridge's north and south rails.

For the purposes of this deviation, the bridge will be allowed to remain in the closed-to-navigation position from 6 a.m. to 1 p.m. each day. From 1 p.m. until 2:30 p.m. the bridge will be opened for the passage of vessels. The bridge will again be closed-to-navigation from 2:30 p.m. to 9 p.m. This schedule will occur for two (2) separate two-day periods, on March 9 through 10, and on March 16 through March 17, 2017. At all other times the bridge will operate in accordance with 33 CFR 117.5.

The vertical clearance of the bridge is 4 feet above mean high water (MHW), elevation 8.2 feet above MHW in the closed-to-navigation position and 73 feet above MHW in open-to-navigation position. Navigation on the waterway consists of tugs with tows, oil industry related work and crew boats, commercial fishing vessels and some recreational crafts.

Vessels able to pass under the bridge in the closed position may do so at anytime. The bridge will be able to open for emergencies and the Morgan City-Port Allen Landside route through Amelia, LA can be used as an alternate route. The Coast Guard will inform the users of the waterways through our Local and Broadcast Notices to Mariners of the change in operating schedule for the bridge, so that vessel operators can arrange their transits to minimize any impact caused by the temporary deviation.

In accordance with 33 CFR 117.35, the drawbridge must return to its regular operating schedule immediately at the end of the effective period of this temporary deviation. This deviation from the operating regulations is authorized under 33 CFR 117.35.

Dated: February 13, 2017.
Eric A. Washburn,
Bridge Administrator, Eighth Coast Guard District.

[FR Doc. 2017-03186 Filed 2-16-17; 8:45 am]

BILLING CODE 9110-04-P